NATIONAL AERONAUTICS AND SPACE ADMINISTRATION

[Notice (01-084)]

Privacy Act: Report of New System

AGENCY: National Aeronautics and Space Administration (NASA).

ACTION: Notice of New System of Records.

SUMMARY: Each Federal agency is required by the Privacy Act of 1974 to publish a description of the systems of records it maintains containing personal information when a system is substantially revised, deleted, or created. In this notice, NASA provides the required information for a new system of records used to collect information provided by users of Marshall Space Flight Center (MSFC) public Internet Web sites.

DATES: The effective date of this notice is July 9, 2001. Comments must be received in writing on or before August 8, 2001.

ADDRESSES: Office of the Chief Information Officer, Code AO, NASA Headquarters, 300 E Street SW., Washington, DC 20546-0001.

FOR FURTHER INFORMATION CONTACT: Roland Ridgeway, 202-358-4485.

Roland M. Ridgeway, Jr.,
Acting NASA Privacy Act Officer.

NASA 61IWSR

System name:

MSFC Internet Web Site Record System.

Security classification:

None.

System location:

George C. Marshall Space Flight Center, National Aeronautics and Space Administration, Marshall Space Flight Center, AL 35812

Categories of individuals covered by the system:

Users of MSFC public internet Web sites who submit information to MSFC over the internet or otherwise, and parents/guardians and teachers who provide information pursuant to MSFC's implementation of the Children's Online Privacy Protection Act (COPPA) or other child protection measures.

Categories of records in the system:

All information provided by users of MSFC public Internet Web sites such as name, e-mail address, date of birth, mailing address, school, grade level, employment, artwork, written submissions, and information provided by the parents/guardians and teachers of users pursuant to COPPA or other child protection measures.

Authority for maintenance of the system:

42 U.S.C. 2473(c)(8); 44 USC 3101; 15 U.S.C. 6502(b); 16 CFR 312.3-312.8

Routine uses of records maintained in the system, including categories of users and the purpose of such uses:

The following are routine uses (1) Provide information to MSFC contractors who will administer the MSFC Web sites; (2) Communicate with teachers of children who use the sites; (3) Disclosure to members of the public of student-generated material; (4) generate statistics regarding the demographics of users, (5) Law Enforcement, (6) disclose as a ‘routine use' to a Federal, State, or local agency maintaining civil, criminal, or other relevant enforcement information, (7) disclose to a Federal agency, in response to its request, in connection with the hiring or retention of an employee, the issuance of a security clearance, the reporting of an investigation of an employee, the letting of a contract, or the issuance of a license, grant, or other benefit by the requesting agency, to the extent that the information is relevant and necessary to the requesting agency's decision on the matter, and (8) Court or other formal proceedings.

Policies and Practices for Storing, Retrieving, Accessing, Retaining, and Disposing of Records in the System:

Storage:

Stored as electronic media.

Retrievability:

Records may be searched by name, e-mail address, or birthdate.

Safeguards:

During business hours, paper records are maintained in areas accessible only to authorized NASA and NASA contractor personnel. Electronic records are accessible via passwords from workstations located in attended offices. After business hours, buildings have security guards and secured doors.

Retention and Disposal:

Records are maintained in Agency files for varying periods of time depending on the need for use of the records. Records collected pursuant to COPPA Section 1303(b)(2)(A), (B), (C), and (D) will be destroyed as soon as possible, but no later than 90 days after the collection of the data. Records collected pursuant to other provisions of COPPA will be destroyed upon the request of the user or the parent/guardian of children who use the site, or not later than 5 years after date of last entry on the record. All other records will be destroyed 5 years after date of last entry on the record per the National Archives and Records Administration's General Records Schedule 14, Item 24(a).

System Manager and Address:

AD03/Chief Information Officer, George C. Marshall Space Flight Center, National Aeronautics and Space Administration, Marshall Space Flight Center, AL 35812

Notification Procedure:

Individuals interested in inquiring about their records should notify the System Manager at the address given above.

Record Access Procedures:

Individuals who wish to gain access to their records should submit their request in writing to the System Manager at the address given above.

Contesting Record Procedures:

The NASA regulations governing access to records, procedures for contesting the contents and for appealing initial determinations are set forth in 14 CFR part 1212.

Record Source Categories:

The information is submitted by users of MSFC public Internet Web sites.

[FR Doc. 01-17028 Filed 7-6-01; 8:45 am]

BILLING CODE 7510-01-P